DEPARTMENT OF HEALTH AND HUMAN SERVICES

Centers for Disease Control and Prevention

[60Day-13-0923]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Ronald Otten, CDC Reports Clearance Officer, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of the National Tobacco Prevention and Control Public Education Campaign (OMB No. 0920-0923, exp. 2/28/2013)—Revision—National Center for Chronic Disease Prevention and Health Promotion (NCCDPHP), Centers for Disease Control and Prevention (CDC).

Background and Brief Description

In 2012, CDC obtained OMB approval to collect information needed to evaluate CDC's National Tobacco Prevention and Control Public Education Campaign (The Campaign) (OMB No. 0920-0923, exp. 2/28/2013). The evaluation plan was based on two waves of data collection conducted in 2012: An initial baseline survey before the launch of The Campaign (wave 1), and a longitudinal follow-up survey of those participants approximately three months after the conclusion of The Campaign (wave 2). The pre/post assessment design allowed CDC to examine the association between smokers' and nonsmokers' exposure to The Campaign and changes in outcome variables of interest.

CDC recently announced plans to launch a second phase of The Campaign (Phase 2) using the same campaign name (“Tips from Former Smokers”), similar advertisement styles, similar message themes and strategies, and in some cases the same ad cast members. In order to apply a similar evaluation strategy to Phase 2 of The Campaign, CDC is requesting changes to the previously approved information collection plan. These changes include one additional survey in 2013 (wave 3), and changes to the previously approved follow-up questionnaires.

The evaluation plan for Phase 2 will utilize a similar study design (pre/post assessment) and the same sample sources that were utilized in the first phase of campaign evaluation. In 2013, CDC plans to administer 13,750 additional follow-up questionnaires to smokers sourced through the Knowledge Networks (KN) online panel and the Survey Sampling International (SSI) online panel, and 3,286 additional questionnaires to nonsmokers drawn from the KN Panel. Because respondents in 2013 will be drawn from the same sources utilized in 2012, CDC will be able to conduct longer-term longitudinal analysis of respondents who participate in both the first wave (2012) and third wave (2013) of information collection. CDC will assess relevant outcome measures prior to initiation of Phase 1 of The Campaign, and after completion of the combined Phase 1 and Phase 2 campaigns.

The analysis plan for Phase 2 of The Campaign will allow CDC to estimate smokers' and nonsmokers' exposure to Phase 2 campaign messages, characterize respondents' reactions to Phase 2 campaign messages, describe changes in knowledge, attitudes, and beliefs related to smoking and secondhand smoke, and quantify the number of quit attempts made during the Phase 2 campaign. The revised follow-up questionnaires for 2013 will be similar to the questionnaires administered in 2012, however, changes will be made to measure new outcomes targeted by the Phase 2 campaign, such as knowledge of the association between smoking and diabetes, and knowledge of the relationship between secondhand smoke exposure and heart attacks.

The Phase 2 Campaign is expected to launch in early winter/spring 2013 and will air for approximately three months. To ensure accurate measurement of campaign awareness after all media have been delivered, wave 3 data collection will occur approximately three months after the launch of Phase 2 messages. Information will be collected about smokers' and non-smokers' awareness of and exposure to campaign advertisements; knowledge, attitudes, and beliefs related to smoking and secondhand smoke; and behaviors related to smoking cessation (among the smokers in the sample) and behaviors related to non-smokers' encouragement of smokers to quit smoking. Respondents will undergo a brief screening process to ensure that they receive the appropriate version of the follow-up questionnaire (smoker or nonsmoker).

OMB approval is requested for one year. Questionnaires will be administered on-line. Participation is voluntary and there are no costs to respondents other than their time.

Estimated Annualized Burden Hours
Type of respondents | Form name | Number of respondents | Number of responses per respondent | Average burden per response (in hr) | Total burden (in hr)
General Population | Screening and Consent Process | 43,022 | 1 | 2/60 | 1,434
Adults, ages 18-54 in the U.S. | Smoker Follow-Up Questionnaire | 13,750 | 1 | 25/60 | 5,729
| Non-Smoker Follow-Up Questionnaire | 3,286 | 1 | 25/60 | 1,369
Total |  |  |  |  | 8,532

Dated: October 9, 2012.
Ron A. Otten,
Director, Office of Scientific Integrity (OSI), Office of the Associate Director for Science (OADS), Office of the Director, Centers for Disease Control and Prevention.

[FR Doc. 2012-25250 Filed 10-12-12; 8:45 am]

BILLING CODE 4163-18-P